ENVIRONMENTAL PROTECTION AGENCY

40 CFR Part 98

Mandatory Greenhouse Gas Reporting

CFR Correction

In Title 40 of the Code of Federal Regulations, Parts 96 to 99, revised as of July 1, 2014, on page 764, in § 98.153, at the end of paragraph (d) introductory text, the parameter ED of Equation O-5 is revised and reinstated to read as follows:

§ 98.153 Calculating GHG emissions.

* * * * *

(d) * * *

* * * * *

ED = Mass of HFC-23 emitted annually from destruction device (metric tons), calculated using Equation O-8 of this section.

* * * * *

[FR Doc. 2015-14399 Filed 6-11-15; 8:45 am]

BILLING CODE 1505-01-D